DEPARTMENT OF TRANSPORTATION

Surface Transportation Board

[STB Finance Docket No. 35089]

East Penn Railroad, LLC—Acquisition Exemption-Berks County, PA

East Penn Railroad, LLC (ESPN), a Class III rail carrier, has filed a verified notice of exemption under 49 CFR 1150.41 to acquire 8.60 miles of rail line from Berks County, PA. The line, known as the Colebrookdale Line, extends between milepost 0.00, at Pottsgrove Township, PA, and milepost 8.60, at Colebrookdale Township, PA, in Berks County.¹

¹ ESPN indicates that its new owner, Regional Rail, LLC, a noncarrier, discovered that one of ESPN's predecessors, Penn Eastern Rail Lines, Inc., had consummated the acquisition of the line in July 2003, but inadvertently failed to obtain prior Board approval for that acquisition. ESPN here seeks such approval.

ESPN certifies that its projected annual revenues as a result of this transaction will not result in the creation of a Class II or Class I rail carrier and further certifies that its projected annual revenues will not exceed $5 million.

The earliest this transaction may be consummated is November 15, 2007, the effective date of the exemption (30 days after the exemption was filed).

If the notice contains false or misleading information, the exemption is void ab initio. Petitions to revoke the exemption under 49 U.S.C. 10502(d) may be filed at any time. The filing of a petition to revoke will not automatically stay the transaction. Petitions for stay must be filed no later than November 8, 2007 (at least 7 days before the exemption becomes effective).

An original and 10 copies of all pleadings, referring to STB Finance Docket No. 35089, must be filed with the Surface Transportation Board, 395 E Street, SW., Washington, DC 20423-0001. In addition, one copy of each pleading must be served on Karl Morell, Suite 225, 1455 F Street, NW., Washington, DC 20005.

Board decisions and notices are available on our Web site at http://www.stb.dot.gov.

Decided: October 23, 2007.
By the Board, David M. Konschnik, Director, Office of Proceedings.
Vernon A. Williams,
Secretary.

[FR Doc. E7-21200 Filed 10-31-07; 8:45 am]

BILLING CODE 4915-01-P